DEPARTMENT OF EDUCATION

National Advisory Committee on Institutional Quality and Integrity (NACIQI): Notice of Meeting Changes

AGENCY: National Advisory Committee on Institutional Quality and Integrity, Department of Education.

SUMMARY: This notice advises interested parties of changes concerning the June 9-10, 2008 meeting of the National Advisory Committee on Institutional Quality and Integrity (NACIQI) and amends information provided in the original meeting notice published in the March 3, 2008 Federal Register (73 FR 11404).

FOR FURTHER INFORMATION CONTACT: Ms. Melissa Lewis, the Executive Director of the National Advisory Committee on Institutional Quality and Integrity, U.S. Department of Education, Room 7127, MS 7592, 1990 K St., NW., Washington, DC 20006, telephone: (202) 219-7009; fax: (202) 219-7008, e-mail: Melissa.Lewis@ed.gov. Individuals who use a telecommunications device for the deaf (TDD) may call the Federal Information Relay Service at 1-800-877-8339 between 8 a.m. and 8 p.m. Eastern time, Monday through Friday.

SUPPLEMENTARY INFORMATION: The changes to the agenda for the June 2008 meeting of the NACIQI, to be held at The Liaison Capitol Hill, 415 New Jersey Avenue, NW., Washington, DC 20001:

(1) The NACIQI is now scheduled to meet on Monday, June 9, 2008, from 9:15 a.m. to approximately 6 p.m. The NACIQI will not meet on Tuesday, June 10, 2008.

(2) The agency listed below, which was originally scheduled for review during the NACIQI's June 2008 meeting, will be postponed for review until a future meeting.

1. American Bar Association, Council of the Section of Legal Education and Admissions to the Bar (Current and requested scope of recognition: The accreditation throughout the United States of programs in legal education that lead to the first professional degree in law, as well as freestanding law schools offering such programs. This recognition also extends to the Accreditation Committee of the Section of Legal Education (Accreditation Committee) for decisions involving continued accreditation (referred to by the agency as “approval”) of law schools.)

Any third-party written comments regarding this agency that were received by April 2, 2008, in accordance with the Federal Register notice published on March 3, 2008, will become part of the official record, and those comments will be considered by the NACIQI when it reviews the agency's petition for continued recognition at a future meeting. In addition, prior to the meeting, another opportunity to provide written comments on the agency will be announced in a Federal Register notice.

How May I Obtain Electronic Access to This Document?

You may view this document, as well as all other Department of Education documents published in the Federal Register, in text or Adobe Portable Document Format (PDF), on the Internet at the following site: http://www.ed.gov/legislation/FedRegister. To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Authority: 5 U.S.C. Appendix 2.

Dated: May 19, 2008.
Diane Auer Jones,
Assistant Secretary for Postsecondary Education.

[FR Doc. E8-11778 Filed 5-23-08; 8:45 am]

BILLING CODE 4000-01-P